ENVIRONMENTAL PROTECTION AGENCY

[EPA-HQ-OAR-2014-0738 and EPA-HQ-OAR-2010-0682; FRL-9993-82-OAR]

Notice of Final Approval for an Alternative Means of Emission Limitation at Shell Oil Products U.S. Martinez Refinery

AGENCY: Environmental Protection Agency (EPA).

ACTION: Notice; final approval.

SUMMARY: This document announces our approval of the alternative means of emission limitation (AMEL) request under the Clean Air Act (CAA) submitted by Shell Oil Products U.S. Martinez Refinery (Shell Martinez) to operate a multi-point ground flare (MPGF) at a refinery in Martinez, California. The EPA received one non-substantive comment that appears to support the request; we received no adverse comment on the request. This approval document specifies the operating conditions and monitoring, recordkeeping, and reporting requirements that these facilities must follow to demonstrate compliance with the approved AMEL.

DATES: The approval of the AMEL request from Shell Martinez to operate an MPGF at the Shell Martinez refinery, as specified in this document, is approved on May 24, 2019.

ADDRESSES: The Environmental Protection Agency (EPA) has established a docket for this action under Docket ID No. EPA-HQ-OAR-2014-0738. All documents in the docket are listed on the https://www.regulations.gov/ website. Although listed, some information is not publicly available, e.g., Confidential Business Information or other information whose disclosure is restricted by statute. Certain other material, such as copyrighted material, is not placed on the internet and will be publicly available only in hard copy form. Publicly available docket materials are available either electronically through https://www.regulations.gov/ or in hard copy at the EPA Docket Center, EPA WJC West Building, Room Number 3334, 1301 Constitution Ave. NW, Washington, DC. The Public Reading Room hours of operation are 8:30 a.m. to 4:30 p.m. Eastern Standard Time (EST), Monday through Friday. The telephone number for the Public Reading Room is (202) 566-1744, and the telephone number for the Docket Center is (202) 566-1742.

FOR FURTHER INFORMATION CONTACT: For questions about this final action, contact Ms. Angie Carey, Sector Policies and Programs Division (E143-01), Office of Air Quality Planning and Standards, U.S. Environmental Protection Agency, Research Triangle Park, North Carolina 27711; telephone number: (919) 541-2187; fax number: (919) 541-0516; and email address: carey.angela@epa.gov.

SUPPLEMENTARY INFORMATION:

Preamble acronyms and abbreviations. We use multiple acronyms and terms in this preamble. While this list may not be exhaustive, to ease the reading of this preamble and for reference purposes, the EPA defines the following terms and acronyms here:

AMEL alternative means of emission limitation

BTU/scf British thermal units per standard cubic foot

CFR Code of Federal Regulations

DCU delayed coking unit

EPA Environmental Protection Agency

MACT maximum achievable control technology

MPGF multi-point ground flare

NESHAP national emission standards for hazardous air pollutants

Organization of this document. The information in this document is organized as follows:

I. Background

A. Summary

B. Regulatory Flare Requirements

II. Summary of Public Comments on the AMEL Request

III. AMEL for the MPGF

I. Background

A. Summary

In a Federal Register document dated March 11, 2019, the EPA provided public notice and solicited comment on the request under the CAA by Shell Martinez to operate an MPGF at a refinery in Martinez, California (see 84 FR 8715). In that document, the EPA solicited comment on all aspects of the AMEL request, including the operating conditions specified in that document that are necessary to achieve a reduction in emissions of volatile organic compounds and organic hazardous air pollutants at least equivalent to the reduction in emissions required by the maximum achievable control technology (MACT) requirements for Petroleum Refineries at 40 CFR 63.670(d) that apply to emission sources that would be controlled by this MPGF. Shell Martinez requested the AMEL for its MPGF that controls emissions from its delayed coking unit (DCU). Shell Martinez submitted an AMEL request to operate a flare with tip exit velocities greater than those allowed in 40 CFR 63.670(d) while achieving ≥ 96.5-percent combustion efficiency and 98-percent destruction efficiency.

This action provides a summary of our approval of this AMEL request.

B. Regulatory Flare Requirements

Shell Martinez provided the information specified in the flare AMEL framework set forth in the Petroleum Refinery MACT at 40 CFR 63.670(r) to support its AMEL request. Shell Martinez is seeking an AMEL to operate its MPGF during upset emergency conditions. This DCU is subject to the Petroleum Refinery MACT, 40 CFR part 63, subpart CC; accordingly, the request followed the AMEL framework specified in 40 CFR part 63, subpart CC, at 40 CFR 63.670(r).

II. Summary of Public Comments on the AMEL Request

The Agency received one non-substantive comment that appears to support the initial notice. No adverse comment was received on the request.

III. AMEL for the MPGF

The EPA is approving the AMEL request by Shell Martinez to operate an MPGF with tip exit velocities greater than those allowed in 40 CFR 63.670(d) while achieving ≥96.5-percent combustion efficiency and 98-percent destruction efficiency. We are also establishing in this notice the operating conditions for this MPGF as part of this approval. These operating conditions, which are the same as those set forth in the March 11, 2019, document, will ensure that this flare will achieve emission reductions at least equivalent to those achieved by flares complying with the relevant requirements in the Petroleum Refinery MACT. The operating conditions are as follows:

(1) The MPGF must be operated according to the requirements of the Petroleum Refinery MACT, including 40 CFR 63.670 and 63.671, except that all references to a combustion zone heating value of 270 British thermal units per standard cubic feet (BTU/scf) are replaced with a value of 800 BTU/scf and the flare tip velocity requirements of 40 CFR 63.670(d) do not apply.

(2) Each stage that cross-lights must have at least two pilots with a continuously lit pilot flame.

(3) The operator of the DCU MPGF system shall install and operate pressure monitor(s) on the main flare header, as well as a valve position indicator monitoring system capable of monitoring and recording the position for each staging valve to ensure that the flare operates at normal maximum operating pressure of 15 pounds per square inch gauge as described in the AMEL application. The pressure monitor shall meet the requirements in Table 13 of 40 CFR 63, subpart CC.

(a) The owner or operator of the Shell Martinez DCU MPGF shall meet the reporting requirements in the Petroleum Refinery MACT in 40 CFR 63.655(g)(11)(i)-(iii). In addition, the Shell Martinez MPGF notification shall also include records specified in sections (i)-(ii) below.

(i) Records of when the pressure monitor(s) on the main flare header show the flare burners are operating outside the range of tested conditions or outside the range of the manufacturer's specifications. Indicate the date and time for each period, the pressure measurement, the stage(s) and number of flare burners affected, and the range of tested conditions or manufacturer's specifications.

(ii) Records of when the staging valve position indicator monitoring system indicates that a stage of the flare should not be in operation and is, or that a stage of the flare should be in operation and is not. Indicate the date and time for each such period, whether the stage was supposed to be open but was closed, or vice versa, and the stage(s) and number of flare burners affected.

Dated: May 20, 2019.
Panagiotis Tsirigotis,
Director, Office of Air Quality Planning and Standards.

[FR Doc. 2019-10904 Filed 5-23-19; 8:45 am]

BILLING CODE 6560-50-P